DEPARTMENT OF ENERGY

Federal Energy Regulatory Commission

Combined Notice of Filings #1

August 4, 2010.

Take notice that the Commission received the following electric corporate filings:

Docket Numbers: EC10-83-000.

Applicants: Southwestern Electric Power Company.

Description: Southwestern Electric Power Company submits Application for Approval Under Section 203 of the Federal Power Act, Request for Expedited Consideration and Request for Confidential Treatment.

Filed Date: 07/30/2010.

Accession Number: 20100802-0216.

Comment Date: 5 p.m. Eastern Time on Friday, August 20, 2010.

Take notice that the Commission received the following electric rate filings:

Docket Numbers: ER01-1099-014; ER02-1406-015; ER99-2928-011.

Applicants: Cleco Power LLC; Acadia Power Partners, LLC; Cleco Evangeline LLC.

Description: Cleco Companies submits revised Simultaneous Import Limitation data, et al.

Filed Date: 08/02/2010.

Accession Number: 20100803-0024.

Comment Date: 5 p.m. Eastern Time on Monday, August 23, 2010.

Docket Numbers: ER10-1152-002.

Applicants: Allegheny Power.

Description: Allegheny Power submits Sub First Revised Sheet No. 312 et al. to FERC Electric Tariff, Sixth Revised Volume No. 1.

Filed Date: 07/28/2010.

Accession Number: 20100728-0210.

Comment Date: 5 p.m. Eastern Time on Wednesday, August 18, 2010.

Docket Numbers: ER10-1299-002.

Applicants: Westar Energy, Inc.

Description: Westar Energy, Inc submits amended filing to provide clarity to and cost support for the agreement.

Filed Date: 08/03/2010.

Accession Number: 20100804-0200.

Comment Date: 5 p.m. Eastern Time on Tuesday, August 24, 2010.

Docket Numbers: ER10-1783-001.

Applicants: REP Energy LLC.

Description: REP Energy LLC submits the amended Petition for Acceptance of Initial Rate Schedule, Waivers and Blanket Authority.

Filed Date: 07/28/2010.

Accession Number: 20100729-0205.

Comment Date: 5 p.m. Eastern Time on Wednesday, August 18, 2010.

Docket Numbers: ER10-1806-001.

Applicants: AP Holdings, LLC.

Description: AP Holdings, LLC amends the July 19th Petition by providing additional information regarding its ownership structure etc.

Filed Date: 07/30/2010.

Accession Number: 20100802-0214.

Comment Date: 5 p.m. Eastern Time on Friday, August 20, 2010.

Docket Numbers: ER10-2042-001; ER10-1862-001; ER10-1864-001; ER10-1865-001; ER10-1873-001; ER10-1875-001; ER10-1876-001; ER10-1878-001; ER10-1883-001; ER10-1884-001; ER10-1885-001; ER10-1888-001; ER10-1938-001; ER10-1941-001; ER10-1942-001; ER10-1947-001.

Applicants: Calpine Energy Services, L.P., South Point Energy Center, LLC, Delta Energy Center, LLC, Geysers Power Company, LLC, Otay Mesa Energy Center, LLC, Calpine Power America-CA, LLC, Pastoria Energy Center, LLC, Metcalf Energy Center, LLC, Los Medanos Energy Center LLC, Los Esteros Critical Energy Facility LLC, Goose Haven Energy Center, LLC, Gilroy Energy Center, LLC, Creed Energy Center, LLC, Calpine Gilroy Cogen, L.P., Power Contract Financing, L.L.C., Calpine Construction Finance Co., L.P.

Description: Updated Market Power Analysis of Calpine Energy Services, L.P., et al.

Filed Date: 07/30/2010.

Accession Number: 20100730-5263.

Comment Date: 5 p.m. Eastern Time on Friday, August 20, 2010.

Docket Numbers: ER10-2082-000.

Applicants: National Fuel Resources, Inc.

Description: National Fuel Resources, Inc submits notice of cancellation of its FERC Electric Tariff, Original Volume 1, Original Sheet 1-2, effective 8/1/10.

Filed Date: 07/30/2010.

Accession Number: 20100802-0208.

Comment Date: 5 p.m. Eastern Time on Friday, August 20, 2010.

Docket Numbers: ER10-2083-000.

Applicants: POSDEF Power Company, L.P.

Description: POSDEF Power Company, LP submits Notice of Cancellation of its market-based rate tariff, FERC Electric Tariff, First Revised Volume 1, effective 6/30/10.

Filed Date: 07/30/2010.

Accession Number: 20100802-0207.

Comment Date: 5 p.m. Eastern Time on Friday, August 20, 2010.

Docket Numbers: ER10-2084-000.

Applicants: New England Power Pool.

Description: New England Power Pool Participants Committee submits transmittal letter along with counterpart signature pages of the NEPOOL Agreement with Choice Energy et al.

Filed Date: 07/30/2010.

Accession Number: 20100802-0206.

Comment Date: 5 p.m. Eastern Time on Friday, August 20, 2010.

Docket Numbers: ER10-2085-000.

Applicants: New England Power Company.

Description: National Grid submits notice canceling the Interconnection Agreement with Dominion Energy Manchester Street, Inc, designated as Original Service Agreement No 102, FERC Electric Tariff, Fourth Revised Volume No. 1.

Filed Date: 07/30/2010.

Accession Number: 20100802-0205.

Comment Date: 5 p.m. Eastern Time on Friday, August 20, 2010.

Docket Numbers: ER10-2086-000.

Applicants: Alta Wind I, LLC.

Description: Petition of Alta Wind I, LLC for order accepting market-based rate tariff for filing and granting waivers and blanket approvals and request for expedited action.

Filed Date: 07/30/2010.

Accession Number: 20100802-0204.

Comment Date: 5 p.m. Eastern Time on Friday, August 20, 2010.

Docket Numbers: ER10-2087-000.

Applicants: Wisconsin Public Service Corporation.

Description: Wisconsin Public Service Corporation submits Notice of Cancellation of its Coordination Sales Tariff designated as FERC Electric Tariff, First Revised Volume 5.

Filed Date: 07/30/2010.

Accession Number: 20100802-0202.

Comment Date: 5 p.m. Eastern Time on Friday, August 20, 2010.

Docket Numbers: ER10-2088-000.

Applicants: Southern Company Services, Inc.

Description: Alabama Power Company et al. (Southern Companies) submits notice of cancellation of its tariff sheet for FERC Electric Tariff, First Revised Volume 9, Generator Balancing Service.

Filed Date: 07/30/2010.

Accession Number: 20100802-0203.

Comment Date: 5 p.m. Eastern Time on Friday, August 20, 2010.

Docket Numbers: ER10-2115-000.

Applicants: Carolina Power & Light Company.

Description: Notice of Cancellation of Network Integration Transmission Service Agreement of Carolina Power & Light Company with Town of Winterville, NC.

Filed Date: 08/04/2010.

Accession Number: 20100804-5057.

Comment Date: 5 p.m. Eastern Time on Wednesday, August 25, 2010.

Take notice that the Commission received the following electric securities filings:

Docket Numbers: ES09-31-003.

Applicants: Entergy Texas, Inc.

Description: Application of Entergy Texas, Inc. to amend existing authorization to issue long-term debt during the period from June 1, 2009, through May 31, 2011.

Filed Date: 07/29/2010.

Accession Number: 20100729-5168.

Comment Date: 5 p.m. Eastern Time on Thursday, August 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-19773 Filed 8-10-10; 8:45 am]

BILLING CODE 6717-01-P